DEPARTMENT OF COMMERCE

National Oceanic and Atmospheric Administration

[I.D. 012402D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Habitat Oversight Committee and Skate Oversight Committee and Advisory Panel in February, 2002. Recommendations from these groups will be brought to the full Council for formal consideration and action, if appropriate.

DATES: The meetings will held on February 14, 2002 and February, 25, 2002.

ADDRESSES: The meetings will be held in Mansfield and Danvers, MA.

Council address: New England Fishery Management Council, 50 Water Street, Newburyport, MA 01950.

FOR FURTHER INFORMATION CONTACT: Paul J. Howard, Executive Director, New England Fishery Management Council (978) 465-0492.

SUPPLEMENTARY INFORMATION:

Meeting Dates and Agendas

Thursday, February 14, 2002, at 9:30 a.m.—Habitat Oversight Committee Meeting.

Location: Holiday Inn, 31 Hampshire Street, Mansfield, MA 02048; telephone: (508) 339-2200.

The Committee will review alternatives for designating essential fish habitat (EFH) for the skate species complex and meeting the required habitat-related provisions of the Magnuson-Stevens Act, to be incorporated in the proposed Skate Fishery Management Plan (FMP). The Committee may select preferred alternatives to recommend to the full Council. The Committee will also review technical advice and options developed by the Council's EFH Technical Team, Groundfish Plan Development Team (PDT), and Scallop PDT on ways to comply with the habitat-related provisions of the Magnuson-Stevens Act in Amendment 10 to the Sea Scallop FMP. The Committee may develop additional options to be considered by the Council, and they may develop recommendations as to which of the options developed by the PDTs should be fully analyzed in the Amendment 10 Draft Environmental Impact Statement.

Monday, February 25, 2002 at 9:30 a.m.—Joint Skate Oversight Committee and Advisory Panel Meeting.

Location: Sheraton Ferncroft, 50 Ferncroft Road, Danvers, MA 01923; telephone: (978) 777-2500.

The committee and advisory panel will review and approve Draft Skate FMP and Environmental Impact Statement (EIS) and select preferred alternatives for public hearings. Also on the agenda is the review and approval of the Draft Skate FMP Public Hearing Document. They will also review timeline and schedule for Skate FMP public hearings.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: January 25, 2002.
Richard W. Surdi,
Acting Director, Office of Sustainable Fisheries, National Marine Fisheries Service.

[FR Doc. 02-2263 Filed 1-29-02; 8:45 am]

BILLING CODE 3510-22-S